DEPARTMENT OF ENERGY

Federal Energy Regulatory Commission

Notice of License Amendment Request and Soliciting Comments, Motions To Intervene, and Protests

June 21, 2002.

Take notice that the following application has been filed with the Commission and is available for public inspection:

a. Application Type: Request for License Amendment.

b. Project No: 2833-086.

c. Date Filed: April 10, 2002.

d. Applicant: Lewis County Public Utility District.

e. Name of Project: Cowlitz Falls Hydroelectric Project

f. Location: The project is located on the Cowlitz River just below its confluence with the Cispus River in Lewis County, Washington.

g. Filed Pursuant to: 18 CFR 4.200.

h. Applicant Contact: Mr. David J. Muller, Lewis County Public Utility District, P.O. Box 330, Chehalis, WA 98532-0330, (360) 748-9261.

i. FERC Contact: Any questions on this notice should be addressed to Mr. Erich Gaedeke at (202) 208-0777, or e-mail address: erich.gaedeke@ferc.gov.

j. Deadline for filing comments and or motions: July 22, 2002.

All documents (original and seven copies) should be filed with: Magalie R. Salas, Secretary, Federal Energy Regulatory Commission, 888 First Street, NE, Washington DC 20426. Please include the project number (P-2833-086) on any comments or motions filed.

k. Description of Request: The Lewis County Public Utility District (licensee) filed an application to amend its approved Fish and Wildlife Mitigation Plan for the Cowlitz Falls Hydroelectric Project. The licensee requests Commission approval to modify its Mitigation Trout Stocking Program in Lake Scanewa to better strike a balance between meeting the project mitigation catch rate and protecting Endangered Species Act listed species. The Washington State Department of Fish and Wildlife has already approved the licensee's proposal.

l. Locations of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance). A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's web site at http://www.ferc.gov under the “e-Filing” link.

Linwood A. Watson, Jr.,
Deputy Secretary.

[FR Doc. 02-16254 Filed 6-26-02; 8:45 am]

BILLING CODE 6717-01-P